ENVIRONMENTAL PROTECTION AGENCY

40 CFR Part 52

[FL-83-1-200009; FRL-6561-4]

Approval and Promulgation of Implementation Plans; Florida: Approval of Revisions to the Florida State Implementation Plan

AGENCY: Environmental Protection Agency (EPA).

ACTION: Proposed rule.

SUMMARY: EPA is proposing to approve revisions to the Florida State Implementation Plan (SIP) submitted on December 10, 1999, by the State of Florida through the Florida Department of Environmental Protection (FDEP). This submittal consists of revisions to the ozone air quality maintenance plans for the Jacksonville (Duval County) and Southeast Florida (Broward, Dade, and Palm Beach Counties) areas to remove the emission reduction credits attributable to the Motor Vehicle Inspection Program (MVIP) from the future year emission projections contained in those plans. Florida submitted technical amendments to this revision on January 18, 2000. For the Jacksonville and Southeast Florida areas, this revision updates the control strategy by removing emissions credit for the MVIP, and as such, transportation conformity must be redetermined by the Metropolitan Planning Organizations (MPOs) within 18 months of the final approval of this action.

DATES: Comments on EPA's proposed action must be received by April 17, 2000.

ADDRESSES: All comments should be addressed to Joey LeVasseur at the EPA, Region 4 Air Planning Branch, 61 Forsyth Street, SW, Atlanta, Georgia 30303.

Copies of the State submittal are available at the following addresses for inspection during normal business hours:

Environmental Protection Agency, Atlanta Federal Center, Region 4 Air Planning Branch, 61 Forsyth Street S.W., Atlanta, Georgia 30303-3104.

Florida Department of Environmental Protection, Twin Towers Office Building, 2600 Blair Stone Road, Tallahassee, Florida 32399-2400.

FOR FURTHER INFORMATION CONTACT: Joey LeVasseur at 404/562-9035 (E-mail: levasseur.joey@epa.gov).

SUPPLEMENTARY INFORMATION: The following sections: Background, Analysis of the State's Submittal, and Final Action, provide additional information concerning the revisions to the ozone air quality maintenance plans for the Jacksonville and Southeast Florida areas to remove the emission reduction credits attributable to the MVIP from the future year emission projections contained in those plans.

I. Background

Upon enactment of the Clean Air Act Amendments of 1990, the Jacksonville and Southeast Florida areas were classified as nonattainment for the one-hour ozone national ambient air quality standard (NAAQS). On November 16, 1992, the State of Florida submitted comprehensive inventories for volatile organic compound (VOC), oxides of nitrogen (NOX), and carbon monoxide emissions from the Jacksonville and Southeast Florida areas. The inventories include biogenic, area, stationary, and mobile source emissions using 1990 as the base year for calculations to demonstrate NAAQS attainment and maintenance. The 1990 inventory is considered representative of attainment conditions because the one-hour ozone NAAQS was not violated during 1990. By 1993, both areas were able to demonstrate attainment of the one-hour ozone NAAQS and were able to show compliance with other requirements of the Clean Air Act as amended in 1990 (CAA) for redesignation.

On June 23, 1993, the State of Florida through the FDEP requested that the Jacksonville area be redesignated from a transitional ozone nonattainment area to attainment and on November 8, 1993, the State of Florida requested that the Southeast Florida area be redesignated from moderate ozone nonattainment to attainment. Approval of the ozone maintenance plans into the SIP, in conjunction with EPA's redesignation of the two areas to attainment with respect to the 1-hour ozone NAAQS, became effective March 6, 1995, for the Jacksonville area and March 25, 1995, for the Southeast Florida area (40 CFR 81.310).

The ozone maintenance plans for the two areas, developed pursuant to section 175A of the CAA and approved in the SIP, accounted for the MVIP in the mobile source emissions projections. The MVIP began April 1, 1991, in Duval, Palm Beach and Dade Counties and May 1, 1991, in Broward County. Currently, the MVIP is a centralized basic inspection and maintenance program. The program utilizes an idle emissions test to monitor vehicles' emission compliance.

II. Analysis of State's Submittal

On December 10, 1999, FDEP submitted a revision to the SIP for the ozone air quality maintenance plans for the Jacksonville and Southeast Florida areas to remove the emission reduction credits attributable to the MVIP from the future year emission projections contained in those plans. Specifically this action involves a recalculation of the motor vehicle emissions budgets (budgets) for the areas, eliminating the credit for the MVIP. In this submittal, the State originally used the MOBILE 5b model to project mobile source emissions for 2005. The mobile source budgets in the maintenance plan were calculated using the MOBILE 5a model, however the same version of the model must be used for comparisons of mobile source emissions. Subsequently, on January 18, 2000, the State submitted technical amendments to the mobile source emission projection calculations. The State recalculated the 2005 mobile source emissions using the MOBILE 5a model. The change in emissions using the MOBILE 5a versus MOBILE 5b models for 2005 was negligible.

The Transportation Conformity regulations, promulgated on November 24, 1993, established the criteria and procedures for determining conformity of transportation activities to the SIP. Under these provisions and Title I of the CAA, states may revise their emissions budgets at any time through the standard SIP revision process, provided that the revised emissions budgets will not adversely affect attainment and maintenance of the ozone NAAQS for any milestone year in the required time frame. The conformity rule provides states with the option to revise the emissions budgets to reallocate emissions among sources or between pollutants and their precursors so long as this budget maintains total emissions for the area below the attainment inventory levels.

In addition, the SIP revision must not have an adverse impact on maintenance of the NAAQS for any criteria pollutant. Guidance on this issue is contained in a memorandum dated September 17, 1993, from Michael Shapiro, Acting Assistant Administrator for Air and Radiation entitled, “State Implementation Plan Requirements for Areas Submitting Requests for Redesignation to Attainment of the Ozone and Carbon Monoxide National Ambient Air Quality Standards on or after November 15, 1992.” This memo states:

As a general policy, a State may not relax the adopted and implemented SIP upon the area's redesignation to attainment. States should continue to implement existing control strategies in order to maintain the standard. However, section 175A recognizes that States may be able to move SIP measures to the contingency plan upon redesignation if the State can adequately demonstrate that such action will not interfere with maintenance of the standard.

In this revision, Florida demonstrates that the area can maintain the one-hour ozone NAAQS without the implementation of the MVIP. The EPA has reviewed the State's emissions inventory and modeling analyses and finds that they meet applicable guidance and requirements. Therefore, the State has made the necessary demonstration that the MVIP is not necessary to maintain the one-hour ozone NAAQS and that attainment of the NAAQS for any other pollutant will not be affected by removing the MVIP from the SIP. In accordance with EPA's November 15, 1992, policy, the State must include the MVIP as a contingency measure in the maintenance plan for the redesignated area, which it has done.

Tables 1 through Table 5, presented after the text in this subsection, list the revised budgets and the emissions for point, area, biogenic, on-road mobile and non-road mobile sources. The motor vehicle emission budgets are derived as a percentage of the 1990 on road emissions inventories. Upon final EPA approval, these budgets are to be used by the local metropolitan planning organizations and transportation authorities to assure that transportation plans, programs, and projects are consistent with, and conform to, the long-term maintenance of the NAAQS in the Jacksonville and Southeast Florida areas. Emissions inventories and budgets for the Jacksonville area (Duval County) are listed in Table 1. For the Southeast Florida area (Broward, Dade, and Palm Beach), the emissions inventories and budgets are based on the three-county totals which are listed in Table 5. However, in practice, the conformity test can be made for each county on the basis of its county-specific portion of the budget. For the purposes of conformity, allocation of the emissions inventories and budgets for Broward, Dade, and Palm Beach Counties are listed in Table 2 through Table 4, respectively.

Duval County.—Emissions Inventory Summary
[Tons per day]
Category | VOC: 1990 | VOC: 2005 | NOX: 1990 | NOX: 2005
Point | 15.60 | 21.16 | 101.16 | 98.40
Area | 51.25 | 39.24 | 8.37 | 14.67
On-Road Mobile | 82.49 | 44.30 | 61.40 | 52.10
Non-Road Mobile | 24.63 | 29.41 | 21.07 | 23.74
Biogenic | 126.70 | 126.70 | 0.30 | 0.30
Total | 300.67 | 260.81 | 192.30 | 189.21
Motor Vehicle Emission Budget | n/a | 44.30 | n/a | 52.10

Broward County.—Emissions Inventory Summary
[Tons per day]
Category | VOC: 1990 | VOC: 2005 | NOX: 1990 | NOX: 2005
Point | 15.20 | 14.16 | 109.20 | 85.16
Area | 55.60 | 35.03 | 6.90 | 8.21
On-Road Mobile | 109.80 | 55.60 | 80.20 | 65.20
Non-Road Mobile | 37.80 | 47.95 | 28.40 | 36.98
Biogenic | 174.50 | 174.50 | 1.80 | 1.80
Total | 392.90 | 327.24 | 226.50 | 197.35
Motor Vehicle Emission Budget | n/a | 104.35 | n/a | 76.19

Dade County.—Emissions Inventory Summary
[Tons per day]
Category | VOC: 1990 | VOC: 2005 | NOX: 1990 | NOX: 2005
Point | 11.46 | 8.59 | 41.30 | 32.00
Area | 161.00 | 107.18 | 12.52 | 15.30
On-Road Mobile | 156.60 | 87.30 | 117.70 | 100.80
Non-Road Mobile | 65.11 | 77.86 | 36.30 | 56.52
Biogenic | 211.30 | 211.30 | 3.00 | 3.00
Total | 605.47 | 492.23 | 210.82 | 207.62
Motor Vehicle Emission Budget | n/a | 148.77 | n/a | 111.82

Palm Beach County.—Emissions Inventory Summary
[Tons per day]
Category | VOC: 1990 | VOC: 2005 | NOX: 1990 | NOX: 2005
Point | 1.26 | 1.51 | 37.78 | 34.54
Area | 84.06 | 78.29 | 4.19 | 5.03
On-Road Mobile | 70.20 | 46.40 | 56.58 | 55.60
Non-Road Mobile | 26.05 | 32.54 | 18.27 | 25.35
Biogenic | 399.60 | 399.60 | 2.40 | 2.40
Total | 581.17 | 558.34 | 119.22 | 122.92
Motor Vehicle Emission Budget | n/a | 66.69 | n/a | 56.58

Total 3—County (Broward, Dade, and Palm Beach Counties) Emissions Inventory Summary
[Tons per day]
Category | VOC: 1990 | VOC: 2005 | NOˣ: 1990 | NOˣ: 2005
Point | 27.92 | 24.26 | 188.28 | 151.70
Area | 300.66 | 220.50 | 23.61 | 28.54
On-Road Mobile | 336.60 | 189.30 | 254.48 | 221.60
Non-Road Mobile | 128.96 | 158.35 | 82.97 | 118.85
Biogenic | 785.40 | 785.40 | 7.20 | 7.20
Total | 1,579.54 | 1,377.81 | 556.54 | 527.89
Motor Vehicle Emission Budget | n/a | 319.81 | n/a | 244.59

Table 6 provides a comparison of the motor vehicle emissions budgets for VOC and NOX for the Jacksonville and Southeast Florida areas with and without the emissions credits attributed to MVIP.

Jacksonville and Southeast Florida Areas—Motor Vehicle Emissions Budget
[Tons per day]
Area | 2005: With MVIP credits: VOC | 2005: With MVIP credits: NOX | 2005: Without MVIP credits: VOC | 2005: Without MVIP credits: NOX
Jacksonville | 48.30 | 59.10 | 44.30 | 52.10
Broward County | 104.35 | 76.19 | 104.35 | 76.19
Dade County | 148.77 | 111.82 | 148.77 | 111.82
Palm Beach County | 66.69 | 53.75 | 66.69 | 56.58
Southeast Florida | 319.81 | 241.76 | 319.81 | 244.59

In summary, the budgets remain the same as the previous budgets allocated for Dade and Broward Counties. For Palm Beach County, the budget allocation for VOC is the same as the previous budget. In this submittal, the State of Florida increased the Palm Beach County motor vehicles emissions budget for NOX from 53.75 tpd to 56.58 tpd, which is 100 percent of the 1990 on-road emissions inventory allocated for Palm Beach County. The State is allowed to allocate up to 100 percent of the 1990 on-road emissions inventory for use as the motor vehicle emissions budget. The Duval County air quality maintenance plan did not explicitly set forth conformity budgets for VOC or NOX. For this SIP revision, the State is requesting that the conformity budgets for Duval County be set at 44.30 tpd for VOC and 52.10 for NOX, effective upon final approval of this revision. These levels are less than the 1990 on-road emissions inventory levels of 82.49 tpd for VOC and 61.40 tpd for NOX.

Although the motor vehicle emission budgets do not change for all of the counties, the MPOs for all four counties must redetermine conformity within 18 months of the effective date for this SIP revision. This is required because the existing conformity determinations considered emission reduction credits from the MVIP control strategy.

Proposed Action

The EPA proposes to approve the aforementioned changes to the SIP.

Administrative Requirements

Under Executive Order 12866 (58 FR 51735, October 4, 1993), this action is not a “significant regulatory action” and therefore is not subject to review by the Office of Management and Budget. This action merely proposes to approve state law as meeting federal requirements and imposes no additional requirements beyond those imposed by state law. Accordingly, the Administrator certifies that this rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

List of Subjects in 40 CFR Part 52

Environmental protection, Air pollution control, Carbon monoxide, Hydrocarbons, Intergovernmental relations, Nitrogen dioxide, Ozone, Reporting and recordkeeping requirements.

Authority: 42 U.S.C. 7401-7671q.

Dated: March 7, 2000.
A. Stanley Meiburg,
Acting Regional Administrator, Region 4.

[FR Doc. 00-6566 Filed 3-16-00; 8:45 am]

BILLING CODE 6560-50-P